DEPARTMENT OF THE INTERIOR

Bureau of Indian Affairs

[212A2100DD/AAKC001030/A0A501010.999900253G]

Indian Gaming; Approval of Tribal-State Class III Gaming Compact Taking Effect in the State of Washington

AGENCY: Bureau of Indian Affairs, Interior.

ACTION: Notice.

SUMMARY: The Skokomish Indian Tribe (Tribe) and the State of Washington (State) submitted the Fifth Amendment to the Tribal-State Compact for Class III Gaming between the Skokomish Indian Tribe and the State of Washington (Compact) governing certain forms of Class III gaming. This notice announces that the Fifth Amendment to the Tribal-State Compact for Class III Gaming between the Skokomish Indian Tribe and the State of Washington is taking effect.

DATES: The compact takes effect on December 11, 2020.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. On September 22, 2020, the Tribe and the State submitted the Fifth Amendment to the Tribal-State Compact for Class III Gaming between the Skokomish Indian Tribe and the State of Washington. The Secretary took no action on the Fifth Amendment to the Tribal-State Compact for Class III Gaming between the Skokomish Indian Tribe and the State of Washington within 45 days of its submission. Therefore, the Compact is considered to have been approved, but only to the extent it is consistent with IGRA. See 25 U.S.C. 2710(d)(8)(C).

Tara Sweeney,
Assistant Secretary—Indian Affairs.

[FR Doc. 2020-27219 Filed 12-10-20; 8:45 am]

BILLING CODE 4337-15-P